DEPARTMENT OF ENERGY

[FE Docket No. PP-299]

Application for Presidential Permit; Sea Breeze Pacific Regional Transmission System, Inc.

AGENCY: Office of Fossil Energy, DOE.

ACTION: Notice of application.

SUMMARY: Sea Breeze Pacific Regional Transmission System, Inc., (Sea Breeze) has applied for a Presidential permit to construct, operate, maintain, and connect a 150,000-volt (150-kV), direct current transmission line across the U.S. border with Canada.

DATES: Comments, protests, or requests to intervene must be submitted on or before March 21, 2005.

ADDRESSES: Comments, protests, or requests to intervene should be addressed as follows: Office of Fossil Energy (FE-27), U.S. Department of Energy, 1000 Independence Avenue, SW., Washington, DC 20585 (FAX 202-297-5736).

FOR FURTHER INFORMATION CONTACT: Dr. Jerry Pell (Program Office) at 202-586-3362, or Michael T. Skinker (Program Attorney) at 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On December 20, 2004, Sea Breeze filed an application with the Office of Fossil Energy (FE) of the Department of Energy (DOE) for a Presidential permit for the construction of a 150-kV electric transmission line that would cross the U.S.-Canadian border. Sea Breeze is a British Columbia corporation with its principal place of business in Vancouver, British Columbia. Although Sea Breeze is the sole applicant for a Presidential permit, Sea Breeze is a joint venture between Sea Breeze Power Corporation, a publicly traded Canadian corporation, and Boundless Energy, LLC, a limited liability company of the State of Maine.

Sea Breeze proposes to develop a direct current transmission interconnection between Canada and the United States utilizing High Voltage Direct Current Light technology. The project would originate on Vancouver Island in the vicinity of Victoria, British Columbia, Canada, cross the Strait of Juan de Fuca via submarine cable, and proceed via terrestrial underground cable to a converter station to be constructed at a substation located in Port Angeles, Washington, and owned by Bonneville Power Administration. The converter station would convert the direct current back to alternating current.

The entire length of the proposed transmission facilities would be 22 miles, consisting of 1½ miles of land-based underground cable in Canada, 19 miles of submarine cable crossing the Strait of Juan de Fuca, and 1½ miles of land-based underground cable inside the United States. The project is intended to transmit up to 550 megawatts of power in either direction between the two countries.

Since the restructuring of the electric power industry began, resulting in the introduction of different types of competitive entities into the marketplace, DOE has consistently expressed its policy that cross-border trade in electric energy should be subject to the same principles of comparable open access and non-discrimination that apply to transmission in interstate commerce. DOE has stated that policy in export authorization granted to entities requesting authority to export over international transmission facilities. Specifically, DOE expects transmitting utilities owning border facilities constructed pursuant to Presidential permits to provide access across the border in accordance with the principles of comparable open access and non-discrimination contained in the FPA and articulated in Federal Energy Regulation Commission Order No. 888, as amended (Promoting Wholesale Competition Through Open Access Non-Discriminatory Transmission Services by Public Utilities). In furtherance of this policy, DOE intends to condition any Presidential permit issued in this proceeding on compliance with these open access principles.

Procedural Matters: Any person desiring to become a party to this proceeding or to be heard by filing comments or protests to this application should file a petition to intervene, comment or protest at the address provided above in accordance with § 385.211 or 385.214 of the Federal Energy Regulatory Commission's Rules of Practice and Procedures (18 CFR 385.211, 385.214). Fifteen copies of each petition and protest should be filed with DOE on or before the date listed above.

Additional copies of such petitions to intervene or protest also should be filed directly with Tony Duggleby, Chief Executive Officer, Sea Breeze Pacific Regional Transmission System, Inc., Lobby Box 91, Suite 1400, 333 Seymour Street, Vancouver, BC, Canada V6B 5A6 and with either John G. Osborn or Gordon F. Grimes at Bernstein, Shur, Sawyer & Nelson, 100 Middle Street, P.O. Box 9729, Portland, ME 04104-5029.

Before a Presidential permit may be issued or amended, the DOE must determine that the proposed action will not adversely impact on the reliability of the U.S. electric power supply system. In addition, DOE must consider the environmental impacts of the proposed action (i.e., granting the Presidential permit, with any conditions and limitations, or denying it) pursuant to the National Environmental Policy Act of 1969 (NEPA). DOE also must obtain the concurrences of the Secretary of State and the Secretary of Defense before taking final action on a Presidential permit application.

The NEPA compliance process is a cooperative non-adversarial process involving members of the public, state governments, Tribal governments, and the Federal government. The process affords all persons interested in or potentially affected by the environmental consequences of a proposed action an opportunity to present their views, which will be considered in the preparation of the environmental documentation for the proposed action. Intervening and becoming a party to this proceeding will not create any special status for the petitioner with regard to the NEPA process. Notices of forthcoming NEPA activities and information on how to participate in those activities will appear in the Federal Register.

Copies of this application will be made available, upon request, for public inspection and copying at the address provided above. In addition, the application may be viewed on, or downloaded from, the Office of Fossil Energy Web site at http://www.fe.doe.gov/programs/ElectricityRegulation. Select “Pending Proceedings” from the options menu.

Issued in Washington, DC, on February 14, 2005.
Anthony J. Como,
Deputy Director, Electric Power Regulation, Office of Fossil Energy.

[FR Doc. 05-3148 Filed 2-17-05; 8:45 am]

BILLING CODE 6450-01-P